DEPARTMENT OF COMMERCE

National Oceanic and Atmospheric Administration

RIN 0648-XP58

Endangered Species; File No. 10027-02

AGENCY: National Marine Fisheries Service (NMFS), National Oceanic and Atmospheric Administration (NOAA), Commerce.

ACTION: Notice; issuance of permit modification.

SUMMARY: Notice is hereby given that Center for Biodiversity and Conservation, American Museum of Natural History has been issued a modification to scientific research Permit No. 10027-01.

ADDRESSES: The modification and related documents are available for review upon written request or by appointment in the following offices:

Permits, Conservation and Education Division, Office of Protected Resources, NMFS, 1315 East-West Highway, Room 13705, Silver Spring, MD 20910; phone (301)713-2289; fax (301)713-0376;

Pacific Islands Region, NMFS, 1601 Kapiolani Blvd., Rm 1110, Honolulu, HI 96814-4700; phone (808)944-2200; fax (808)973-2941.

FOR FURTHER INFORMATION CONTACT: Patrick Opay or Amy Hapeman, (301)713-2289.

SUPPLEMENTARY INFORMATION: On April 16, 2009, notice was published in the Federal Register (74 FR 17633) that a modification of Permit No. 10027 had been requested by the above-named organization. The requested modification has been granted under the authority of the Endangered Species Act of 1973, as amended (ESA; 16 U.S.C. 1531 et seq.) and the regulations governing the taking, importing, and exporting of endangered and threatened species (50 CFR 222-226).

The modification increases satellite tag attachment takes from 12 to 16 green (Chelonia mydas) sea turtles per year, with a maximum of 25 turtles over the course of the study; increases acoustic tag takes from 15 to 30 green sea turtles per year, with a maximum of 60 acoustic tags over the course of the study; increases skin sampling, blood sampling, flipper and passive integrated transponder tagging and marking takes from 60 to 100 green sea turtles per year, with a maximum of 350 turtles skin and blood sampled over the course of the study; and increases gastric lavage takes from 20 to 50 green sea turtles per year, with a maximum of 200 turtles lavaged over the course of the study.

Issuance of this modification, as required by the ESA was based on a finding that such permit (1) was applied for in good faith, (2) will not operate to the disadvantage of such endangered or threatened species, and (3) is consistent with the purposes and policies set forth in section 2 of the ESA.

Dated: July 20, 2009.
P. Michael Payne,
Chief, Permits, Conservation and Education Division, Office of Protected Resources, National Marine Fisheries Service.

[FR Doc. E9-17722 Filed 7-23-09; 8:45 am]

BILLING CODE 3510-22-S